DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Colorado:
Arapahoe (FEMA Docket No.: B-2372). | Unincorporated areas of Arapahoe County (23-08-0051P). | Carrie Warren-Gully, Chair, Arapahoe County Board of Commissioners, 5334 South Prince Street, Littleton, CO 80120. | Arapahoe County Public Works and Development Department, 6924 South Lima Street, Centennial, CO 80112. | Nov 3, 2023 | 080011
Chaffee (FEMA Docket No.: B-2368). | City of Salida (23-08-0089P). | The Honorable Dan Shore, Mayor, City of Salida, 448 East 1st Street, Suite 112, Salida, CO 81201. | Community Development Department, 448 East 1st Street, Suite 112, Salida, CO 81201. | Nov. 13, 2023 | 080031
Chaffee (FEMA Docket No.: B-2368). | Unincorporated areas of Chaffee County (23-08-0089P). | Keith Baker, Chair, Chaffee County Board of Commissioners, P.O. Box 699, Salida, CO 81201. | Chaffee County Development Services Department, 104 Crestone Avenue, Salida, CO 81201. | Nov. 13, 2023 | 080269
Douglas (FEMA Docket No.: B-2376). | Town of Castle Rock (22-08-0671P). | The Honorable Jason Gray, Mayor, Town of Castle Rock, 100 North Wilcox Street, Castle Rock, CO 80104. | Water Department, 175 Kellogg Court, Castle Rock, CO 80194. | Nov. 13, 2023 | 080050
Douglas (FEMA Docket No.: B-2376). | Unincorporated areas of Douglas County (22-08-0671P). | Abe Laydon, Chair, Douglas County Board of Commissioners, 100 3rd Street, Castle Rock, CO 80104. | Department of Public Works/Engineering, 100 3rd Street, Castle Rock, CO 80104. | Nov. 13, 2023 | 080049
Weld (FEMA Docket No.: B-2368). | City of Greeley (22-08-0472P). | The Honorable John Gates, Mayor, City of Greeley, 1000 10th Street, Greeley, CO 80631. | City Hall, 1000 10th Street, Greeley, CO 80631. | Nov. 2, 2023 | 080184
Weld (FEMA Docket No.: B-2368). | Town of Kersey (22-08-0472P). | The Honorable Gary Lagrimanta, Mayor, Town of Kersey, P.O. Box 657, Kersey, CO 80644. | Town Hall, 446 1st Street, Kersey, CO 80644. | Nov. 2, 2023 | 080185
Weld (FEMA Docket No.: B-2368). | Unincorporated areas of Weld County (22-08-0472P). | Mike Freeman, Chair, Weld County Board of Commissioners, P.O. Box 758, Greeley, CO 80632. | Weld County Administrative Building, 1150 O Street, Greeley, CO 80631. | Nov. 2, 2023 | 080266
Florida:
Broward (FEMA Docket No.: B-2372). | City of Pompano Beach (22-04-5491P). | The Honorable Rex Hardin, Mayor at Large, City of Pompano Beach, 100 West Atlantic Boulevard, Pompano Beach, FL 33060. | Building Department, 100 West Atlantic Boulevard, Pompano Beach, FL 33060. | Nov. 3, 2023 | 120055
Hillsborough (FEMA Docket No.: B-2361). | City of Plant City (23-04-2405P). | Bill McDaniel, Manager, City of Plant City, 302 West Reynolds Street, Plant City, FL 33563. | City Hall, 302 West Reynolds Street, Plant City, FL 33563. | Oct. 26, 2023 | 120113
Pasco (FEMA Docket No.: B-2368). | Unincorporated areas of Pasco County (23-04-1144P). | Mike Carballa, Pasco County Administrator, 8731 Citizens Drive, New Port Richey, FL 34654. | Pasco County Administration Building, 8731 Citizens Drive, New Port Richey, FL 34654. | Nov. 13, 2023 | 120230
Pasco (FEMA Docket No.: B-2368). | Unincorporated areas of Pasco County (23-04-1704P). | Mike Carballa, Pasco County Administrator, 8731 Citizens Drive, New Port Richey, FL 34654. | Pasco County Administration Building, 8731 Citizens Drive, New Port Richey, FL 34654. | Nov. 13, 2023 | 120230
Polk (FEMA Docket No.: B-2361). | Unincorporated areas of Polk County (22-04-4292P). | Bill Beasley, Polk County Manager, 330 West Church Street, Bartow, FL 33831. | Polk County Land Development Division, 330 West Church Street, Bartow, FL 33831. | Oct. 26, 2023 | 120261
Polk (FEMA Docket No.: B-2361). | Unincorporated areas of Polk County (23-04-0252P). | Bill Beasley, Polk County Manager, 330 West Church Street, Bartow, FL 33831. | Polk County Land Development Division, 330 West Church Street, Bartow, FL 33831. | Oct. 26, 2023 | 120261
Georgia: Effingham (FEMA Docket No.: B-2372). | Unincorporated areas of Effingham County (23-04-0200P). | Tim Callanan, Manager, Effingham County, 804 South Laurel Street, Springfield, GA 31329. | Effingham County Administrative Complex, 804 South Laurel Street, Springfield, GA 31329. | Nov. 2, 2023 | 130076
Kentucky: Jefferson (FEMA Docket No.: B-2368.). | Metropolitan Government of Louisville and Jefferson County (23-04-3227P). | The Honorable Craig Greenberg, Mayor, Metropolitan Government of Louisville and Jefferson County, 527 West Jefferson Street, Louisville, KY 40202. | Louisville/Jefferson County Metropolitan Sewer District, 700 West Liberty Street, Louisville, KY 40203. | Nov. 3, 2023 | 210120
North Carolina:
Buncombe (FEMA Docket No.: B-2382). | Unincorporated areas of Buncombe County (23-04-1182P). | Brownie Newman, Chair, Buncombe County Board of Commissioners, 200 College Street, Suite 300, Asheville, NC 28801. | Buncombe County Planning and Development Department, 46 Valley Street, Asheville, NC 28801. | Nov. 10, 2023 | 370031
Jackson and Swain (FEMA Docket No.: B-2386). | Eastern Band of Cherokee Indians (21-04-5780P). | The Honorable Richard Sneed, Principal Chief, Eastern Band of Cherokee Indians, P.O. Box 455, Cherokee, NC 28719. | Office of the Principal Chief, 88 Council House Loop, Cherokee, NC 28719. | Nov. 13, 2023 | 370401
Jackson (FEMA Docket No.: B-2386). | Unincorporated areas of Jackson County (21-04-5780P). | The Honorable Mark Letson, Chair, Jackson County Board of Commissioners, P.O. Box 246, Cashiers, NC 28714. | Jackson County Planning Department, 401 Grindstaff Cove Road, Sylva, NC 28779. | Nov. 13, 2023 | 370282
Swain (FEMA Docket No.: B-2386). | Unincorporated areas of Swain County (21-04-5780P). | The Honorable Kevin Seagle, Chair, Swain County Board of Commissioners, P.O. Box 2321, Bryson City, NC 28713. | Swain County Administration Building, 50 Main Street, Suite 300, Bryson City, NC 28713. | Nov. 13, 2023 | 370227
Oklahoma:
Wagoner (FEMA Docket No.: B-2372). | City of Broken Arrow (22-06-0519P). | The Honorable Debra Wimpee, Mayor, City of Broken Arrow, 220 South 1st Street, Broken Arrow, OK 74012. | Operations Building, 485 North Poplar Avenue, Broken Arrow, OK 74012. | Nov. 2, 2023 | 400236
Wagoner (FEMA Docket No.: B-2372). | Unincorporated areas of Wagoner County (22-06-0519P). | Chris Edwards, Chair, Wagoner County Commissioners, 908 Southwest 15th Street, Wagoner, OK 74467. | Wagoner County Courthouse, 307 East Cherokee Street, Wagoner, OK 74467. | Nov. 2, 2023 | 400215
Pennsylvania: Blair (FEMA Docket No.: B-2376). | Township of Frankstown (23-03-0118P). | George W. Henry, Jr., Chair, Township of Frankstown Board of Supervisors, 2122 Frankstown Road, Hollidaysburg, PA 16648. | Township Hall, 2122 Frankstown Road, Hollidaysburg, PA 16648. | Nov. 13, 2023 | 421387
South Carolina: Orangeburg (FEMA Docket No.: B-2368). | Unincorporated areas of Orangeburg County (22-04-0400P). | Harold Young, Orangeburg County Administrator, 1437 Amelia Street, Orangeburg, SC 29115. | Orangeburg County Floodplain Development Department, 1437 Amelia Street, Orangeburg, SC 29115. | Nov. 2, 2023 | 450160
Texas:
Bexar (FEMA Docket No.: B-2372). | Unincorporated areas of Bexar County (22-06-2616P). | The Honorable Peter Sakai, Bexar County Judge, 101 West Nueva Street, 10th Floor, San Antonio, TX 78205. | Bexar County Public Works Department, 1948 Probandt Street, San Antonio, TX 78214. | Nov. 6, 2023 | 480035
Bowie (FEMA Docket No.: B-2368). | City of Texarkana (22-06-2469P). | The Honorable Bob Bruggeman, Mayor, City of Texarkana, 220 Texas Boulevard, Texarkana, TX 75501. | Public Works Department, 220 Texas Boulevard, Texarkana, TX 75501. | Nov. 2, 2023 | 480060
Collin (FEMA Docket No.: B-2372). | City of Anna (22-06-2931P). | The Honorable Nate Pike, Mayor, City of Anna, P.O. Box 776, Anna, TX 75409. | Public Works, Building Department, 3223 North Powell Parkway, Anna, TX 75409. | Nov. 3, 2023 | 480132
Collin (FEMA Docket No.: B-2368). | City of McKinney (22-06-2372P). | The Honorable George Fuller, Mayor, City of McKinney, P.O. Box 517, McKinney, TX 75070. | Engineering Department, 221 North Tennessee Street, McKinney, TX 75069. | Nov. 13, 2023 | 480135
Collin (FEMA Docket No.: B-2368). | City of Melissa (22-06-2372P). | The Honorable Jay Northcut, Mayor, City of Melissa, 3411 Barker Avenue, Melissa, TX 75454. | City Hall, 3411 Barker Avenue, Melissa, TX 75454. | Nov. 13, 2023 | 481626
Collin (FEMA Docket No.: B-2368). | Unincorporated areas of Collin County (22-06-2372P). | The Honorable Chris Hill, Collin County Judge, 2300 Bloomdale Road, Suite 4192, McKinney, TX 75071. | Collin County Engineering Department, 4690 Community Avenue, Suite 200, McKinney, TX 75071. | Nov. 13, 2023 | 480130
Denton (FEMA Docket No.: B-2372). | City of Lewisville (23-06-0197P). | The Honorable T.J. Gilmore, Mayor, City of Lewisville, P.O. Box 299002, Lewisville, TX 75057. | Engineering Department, 151 West Church Street, Lewisville, TX 75057. | Oct. 30, 2023 | 480195
Ellis (FEMA Docket No.: B-2372). | Unincorporated areas of Ellis County (23-06-1297P). | The Honorable Todd Little, Ellis County Judge, 101 West Main Street, Waxahachie, TX 75165. | Ellis County Public Works Department, 109 South Jackson Street, Waxahachie, TX 75165. | Nov. 2, 2023 | 480798
Guadalupe (FEMA Docket No.: B-2368). | City of Cibolo (23-06-0055P). | The Honorable Mark Allen, Mayor, City of Cibolo, 200 South Main Street, Cibolo, TX 78108. | Public Works Department, 108 Cibolo Drive, Cibolo, TX 78108. | Nov. 2, 2023 | 480267
Guadalupe (FEMA Docket No.: B-2368). | City of Schertz (23-06-0055P). | The Honorable Ralph Gutierrez, Mayor, City of Schertz, 1400 Schertz Parkway, Schertz, TX 78154. | Engineering Department, 1400 Schertz Parkway, Schertz, TX 78154. | Nov. 2, 2023 | 480269
Hunt (FEMA Docket No.: B-2368). | City of Royse City (22-06-2909P). | The Honorable Clay Ellis, Mayor, City of Royse City, P.O. Box 638, Royse City, TX 75189. | City Hall, 305 North Arch Street, Royse City, TX 75189. | Nov. 13, 2023 | 480548
Hunt (FEMA Docket No.: B-2368). | Unincorporated areas of Hunt County (22-06-2909P). | The Honorable Bobby W. Stovall, Hunt County Judge, 2507 Lee Street, 2nd Floor, Greenville, TX 75401. | Hunt County Courthouse, 2507 Lee Street, 2nd Floor, Greenville, TX 75401. | Nov. 13, 2023 | 480363
Medina (FEMA Docket No.: B-2368). | Unincorporated areas of Medina County (23-06-0288P). | The Honorable Keith Lutz, Medina County Judge, 1300 Avenue M, Room 250, Hondo, TX 78861. | Medina County Environmental Health Department, 1502 Avenue K, Hondo, TX 78861. | Nov. 3, 2023 | 480472
Tarrant (FEMA Docket No.: B-2368). | City of Fort Worth (22-06-2655P). | The Honorable Mattie Parker, Mayor, City of Fort Worth, 200 Texas Street, Fort Worth, TX 76102. | Transportation and Public Works Department, Engineering Vault, 200 Texas Street, Fort Worth, TX 76102. | Oct. 30, 2023 | 480596
Virginia:
Loudoun (FEMA Docket No.: B-2372). | Unincorporated areas of Loudoun County (23-03-0047P). | Tim Hemstreet, Loudoun County Administrator, 1 Harrison Street, Southeast, 5th Floor, Leesburg, VA 20175. | Loudoun County Government Center, 1 Harrison Street, Southeast, 3rd Floor, MSC #60, Leesburg, VA 20175. | Nov. 6, 2023 | 510090
Prince William (FEMA Docket No.: B-2372). | Unincorporated areas of Prince William County (22-03-1081P). | Christopher Shorter, Prince William County Executive, 1 County Complex Court, Prince William, VA 22192. | Prince William County Watershed Management Branch, 5 County Complex Court, Suite 170, Prince William, VA 22192. | Oct. 27, 2023 | 510119

[FR Doc. 2023-27348 Filed 12-12-23; 8:45 am]

BILLING CODE 9110-12-P